SECURITIES AND EXCHANGE COMMISSION

[Release No. 34-87400; File No. SR-NYSEArca-2019-61)

Self-Regulatory Organizations; NYSE Arca, Inc.; Notice of Designation of a Longer Period for Commission Action on a Proposed Rule Change To Amend the Exchange's Options and Equities Fee Schedules Related to Co-Location Services To Offer Access to a Network Providing Connection to the Three Equities and Options Feeds

October 24, 2019.

On August 22, 2019, NYSE Arca, Inc. (“NYSE Arca” or “Exchange”) filed with the Securities and Exchange Commission (“Commission”), pursuant to Section 19(b)(1) of the Securities Exchange Act of 1934 (“Act”) ¹ and Rule 19b-4 thereunder,² a proposed rule change to establish a network providing connection to three equities and options feeds ³ and amend the Exchange's fee schedules relating to co-location services to offer access to the network. The proposed rule change was published for comment in the Federal Register on September 10, 2019.⁴ One comment on the proposed rule change has been received.⁵

¹ 15 U.S.C. 78s(b)(1).

² 17 CFR 240.19b-4.

³ The Securities Industry Automation Corporation disseminates information concerning: (1) Last-sale price information in Tape A and Tape B-listed securities pursuant to the CTA Plan, (2) quotation information in Tape A and B-listed securities pursuant to the CQ Plan, and (3) quotation and last-sale price information in exchange options trading pursuant to the OPRA Plan. See Notice, infra note 4, at footnote 8.

⁴ See Securities Exchange Act Release No. 86868 (September 4, 2019), 84 FR 47610.

⁵ See Letter from John M. Yetter, Vice President and Senior Deputy General Counsel, Nasdaq, to Vanessa Countryman, Secretary, Commission, dated October 24, 2019.

Section 19(b)(2) of the Act ⁶ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be disapproved. The 45th day after publication of the notice for this proposed rule change is October 25, 2019. The Commission is extending this 45-day time period.

⁶ 15 U.S.C. 78s(b)(2).

The Commission finds it appropriate to designate a longer period within which to take action on the proposed rule change so that it has sufficient time to consider the proposed rule change and the comments received. Accordingly, the Commission, pursuant to Section 19(b)(2) of the Act,⁷ designates December 9, 2019, as the date by which the Commission shall either approve or disapprove, or institute proceedings to determine whether to disapprove, the proposed rule change (File No. SR-NYSEArca-2019-61).

⁷ Id.

⁸ 17 CFR 200.30-3(a)(31).

For the Commission, by the Division of Trading and Markets, pursuant to delegated authority.⁸
Eduardo A. Aleman,
Deputy Secretary.

[FR Doc. 2019-23655 Filed 10-29-19; 8:45 am]

BILLING CODE 8011-01-P